DEPARTMENT OF THE INTERIOR

Bureau of Indian Affairs

Indian Gaming

AGENCY: Bureau of Indian Affairs, Interior.

ACTION: Notice of Tribal-State Gaming Compact Between the State of Arizona and the Yavapai-Prescott Indian Tribe.

SUMMARY: Pursuant to Section 11 of the Indian Gaming Regulatory Act of 1988 (IGRA), Pub. L. 100-497, 25 U.S.C 2710, the Secretary of the Interior shall publish, in the Federal Register, notice of approved Tribal-State Compacts for the purpose of engaging in Class III gaming activities on Indian lands. The Assistant Secretary—Indian Affairs, Department of the Interior, through her delegated authority, has approved the Tribal-State Compact for Class III gaming between the State of Arizona and the Yavapai-Prescott Indian Tribe. The Compact expands the scope of gaming activities authorized under the Compact, increase wager limits, increase the number of permitted gaming devices, and allows the tribe to enter into gaming device transfer agreements with one or more gaming tribes.

EFFECTIVE DATE: August 21, 2003.

FOR FURTHER INFORMATION CONTACT: George T. Skibine, Director, Office of Indian Gaming Management, Bureau of Indian Affairs, Washington, DC 20240, (202) 219-4066.

Dated: August 11, 2003.
Aurene M. Martin,
Assistant Secretary—Indian Affairs.

[FR Doc. 03-21464 Filed 8-20-03; 8:45 am]

BILLING CODE 4310-4N-P